DEPARTMENT OF ENERGY

Federal Energy Regulatory Commission

[Docket No. PR01-15-000]

Green Canyon Pipe Line Company, L.P.; Notice of Rate Petition

June 12, 2001.

Take notice that on May 21, 2001, Green Canyon Pipe Line Company, L.P. (GCP), formerly Sonat Intrastate-Alabama Inc. (SIA), filed a petition pursuant to Section 284.123(b)(2) of the Commission's Regulations under the Natural Gas Policy Act of 1978 (NGPA) for approval of a maximum system-wide rate for transporting natural gas pursuant to Section 311(a)(2) of the NGPA on the former SIA system (SIA facilities).

GCP proposed to retail its current maximum system-wide transportation rate of 29.4 cents per MMBtu for the SIA Facilities. GCP requests that the Commission approve this rate as fair and equitable and not in excess of an amount that is reasonably comparable to the rates that intrastate pipelines would be permitted to charge for providing similar service.

Pursuant to Section 284.123(b)(2)(ii), of the Commission's regulations, if the Commission does not act within 150 days of the date of the Petition's filing date, the rates proposed therein will be deemed to be fair and equitable and not in excess of an amount that interstate pipelines would be permitted to charge for similar services. The Commission may within such 150 day period extend the time for action or institute a proceeding in which all interested parties will be afforded an opportunity for written comments and the oral presentation of views, data and arguments.

Any person desiring to participate in this rate proceeding must file a motion to intervene or protest with the Federal Energy Regulatory Commission, 888 First Street, NE., Washington, D.C. 20426, in accordance with rules 211 and 214 of the Commission's Rules of Practice and Procedure (18 CFR 385.211 and 385.214). All motions must be filed with the Secretary of the Commission on or before June 27, 2001. This petition for rate approval is on file with the Commission and is available for public inspection. This filing may be viewed on the web at http://www.ferc.fed.us/online/rims.htm (call 202-208-2222 for assistance). Comments, protests, and interventions may be filed electronically via the internet in lieu of paper. See, 18 CFR 385.200(a)(1)(iii) and the instruction on the Commission's web site at http://www.ferc.fed.us.efi/doorbell.htm.

David P. Boergers,
Secretary.

[FR Doc. 01-15236 Filed 6-15-01; 8:45 am]

BILLING CODE 6717-01-M